DEPARTMENT OF COMMERCE

International Trade Administration

[A-580-810]

Welded ASTM A-312 Stainless Steel Pipe From the Republic of Korea: Rescission of Antidumping Duty Administrative Review; 2015-2016

AGENCY: Enforcement and Compliance, International Trade Administration, Department of Commerce.

SUMMARY: The Department of Commerce is rescinding the administrative review of the antidumping duty order on welded ASTM A-312 stainless steel pipe from the Republic of Korea (Korea). The period of review is December 1, 2015, through November 30, 2016.

DATES: Effective July 6, 2017.

FOR FURTHER INFORMATION CONTACT: Lingjun Wang, AD/CVD Operations, Office VII, Enforcement and Compliance, International Trade Administration, U.S. Department of Commerce, 1401 Constitution Avenue NW., Washington, DC 20230; telephone: (202) 482-2316.

SUPPLEMENTARY INFORMATION:

Background

On December 1, 2016, the Department of Commerce (Department) published in the Federal Register a notice of opportunity to request an administrative review of the antidumping duty order on welded ASTM A-312 stainless steel pipe from Korea for the period of review (POR) of December 1, 2015, through November 30, 2016.¹ On January 3, 2017, the Department received a timely filed request from the SeAH Steel Corporation (SeAH), in accordance with section 751(a) of the Tariff Act of 1930, as amended (the Act), and 19 CFR 351.213(b), for an administrative review of itself.² On February 13, 2017, pursuant to the request and in accordance with 19 CFR 351.221(c)(1)(i), the Department published in the Federal Register a notice of initiation of an administrative review of SeAH.³ Also on February 13, 2017, pursuant to 19 CFR 351.213(d)(1), SeAH timely withdrew its request for an administrative review.⁴

¹ See Antidumping or Countervailing Duty Order, Finding, or Suspended Investigation; Opportunity To Request Administrative Review, 81 FR 86694 (December 1, 2016).

² See SeAH Letter re: Request for Administrative Review, dated January 3, 2017.

³ See Initiation of Antidumping and Countervailing Duty Administrative Reviews, 82 FR 10457 (February 13, 2017).

⁴ See SeAH Letter re: Withdrawal of Review Request, dated February 13, 2017.

Rescission of Review

Pursuant to 19 CFR 351.213(d)(1), the Department will rescind an administrative review, in whole or in part, if the party, or parties, that requested a review withdraw the request/s within 90 days of the publication date of the notice of initiation of the requested review. As noted above, SeAH withdrew its request for review by the 90-day deadline, and no other party requested an administrative review of this order. Therefore, in response to the timely withdrawal of the request for review and, in accordance with 19 CFR 351.213(d)(1), the Department is rescinding this review.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions to CBP 15 days after the publication date of this notice in the Federal Register.

Notification to Importers

This notice serves as a final reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 777(i)(1) of the Act, and 19 CFR 351.213(d)(4).

Dated: June 29, 2017.
Gary Taverman,
Deputy Assistant Secretary for Antidumping and Countervailing Duty Operations.

[FR Doc. 2017-14173 Filed 7-5-17; 8:45 am]

BILLING CODE 3510-DS-P